DEPARTMENT OF AGRICULTURE

Forest Service

Notice of Sanders County Resource Advisory Committee Meeting

AGENCY: Forest Service, USDA.

ACTION: Notice of meeting.

SUMMARY: Pursuant to the authorities in the Federal Advisory Committee Act (Pub. L. 92-463) and under the Secure Rural Schools and Community Self-Determination Act of 2000 (Pub. L. 106-393) the Lolo and Kootenai National Forests' Sanders County Resource Advisory Committee will meet on August 23, 2012 at 5:30 p.m. and on September 20, 2012 at 5:30 p.m. in Thompson Falls, Montana for business meetings. These meetings are open to the public.

DATES: August 23, 2012; September 20, 2012.

ADDRESSES: The meetings will be held at the Thompson Falls Courthouse, 1111 Main Street, Thompson Falls, MT 59873.

FOR FURTHER INFORMATION CONTACT: Randy Hojem, Designated Federal Official (DFO), District Ranger, Plains Ranger District, Lolo National Forest at (406) 826-3821.

SUPPLEMENTARY INFORMATION: The agenda topics for the August 23, 2012 meeting include reviewing new RAC project proposals, reviewing progress on current projects, and receiving public comment. The agenda topics for the September 20, 2012 meeting include answering committee questions regarding project proposal submissions and voting on projects for recommendation. If the meeting location is changed, notice will be posted in the local newspapers, including the Clark Fork Valley Press, and Sanders County Ledger.

Dated: July 31, 2012.
Randy Hojem,
Designated Federal Official, Plains Ranger District, Lolo National Forest.

[FR Doc. 2012-19379 Filed 8-9-12; 8:45 am]

BILLING CODE 3410-11-P